COMMITTEE FOR PURCHASE FROM PEOPLE WHO ARE BLIND OR SEVERELY DISABLED

Correction of Notice of Additions & Deletion

This Committee is making a correction to a service location and effective date.

In the notice appearing on page 15129, FR Doc. E8-5767, Procurement List Additions & Deletions, on March 21, 2008, the Committee published a requirement for Mail Support Services at the following location: Bureau of Public Debt, 200 Third Street, Parkersburg, WV. The stated address is that of the buying office. The Procurement List is hereby corrected to show the requirement for Mail Support Services is for the Inter-American Foundation, located at 901 N. Stuart Street, Arlington, VA 22203.

The initial effective date of April 20, 2008 has been extended to June 1, 2008.

Kimberly M. Zeich,
Director, Program Operations.

[FR Doc. E8-9685 Filed 5-1-08; 8:45 am]

BILLING CODE 6353-01-P